DEPARTMENT OF LABOR

Employment and Training Administration

Agency Information Collection Activities; Comment Request; Registration and Equal Employment Opportunity in Apprenticeship Programs

ACTION: Notice.

SUMMARY: The Department of Labor's (the Department or DOL) Employment and Training Administration (ETA) is soliciting comments concerning a proposed revision of the information collection request (ICR) currently titled, “Registration and Equal Employment Opportunity in Apprenticeship Programs.” This comment request is part of continuing Departmental efforts to reduce paperwork and respondent burden in accordance with the Paperwork Reduction Act of 1995 (PRA).

DATES: Consideration will be given to all written comments received by October 24, 2025.

ADDRESSES: A copy of this ICR with applicable supporting documentation, including a description of the likely respondents, proposed frequency of response, and estimated total burden, may be obtained free by contacting Ayesha Upshur by email at OA-ICRs@dol.gov.

Submit written comments about, or requests for a copy of, this ICR by mail or courier to the U.S. Department of Labor, Employment and Training Administration, Office Apprenticeship, 200 Constitution Avenue NW, Room N-5311, Washington, DC 20210; by email: OA-ICRs@dol.gov or by fax 202-693-3799.

FOR FURTHER INFORMATION CONTACT: Ayesha Upshur by email at OA-ICRs@dol.gov.

SUPPLEMENTARY INFORMATION: The Department, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR seeks OMB approval for a revision of the currently approved ICR under OMB Control No. 1205-0223, titled “Registration and Equal Employment Opportunity in Apprenticeship Programs.” This ICR revision request is associated with the Department's proposed rule (proposed rule or proposal), “Prohibiting Illegal Discrimination in Registered Apprenticeship Programs,” which has been assigned the Regulation Identifier Number (RIN) 1205-AC21 and was published in the Federal Register on July 2, 2025 (90 FR 28947).

The Department's proposed rule would significantly streamline the regulation at 29 CFR part 30 (part 30) and proposes rescission of several requirements for registered apprenticeship program sponsors contained in the current part 30 regulation.

The Department's regulations covering requirements for registered apprenticeship programs are contained in 29 CFR parts 29 and 30. Title 29 CFR part 29 (part 29) covers labor standards for apprenticeship programs, including requirements for program registration, while Title 29 CFR part 30 (part 30) addresses the current equal employment opportunity requirements for such programs. Several of the regulatory provisions contained in parts 29 and 30 necessitate the collection of information from program sponsors and apprentices, which are reflected in the current content of the Department's OMB-approved information collection instrument, ETA Form 671 (Sections I and II).

As noted above, the proposed rule published on July 2, 2025, would significantly modify the existing scope and content of part 30 by removing certain regulatory provisions—such as those mandating the development and implementation of affirmative action plans and initiatives—that impose substantial administrative burdens on program sponsors and tend to promote illegal and divisive group-based preferences. To reflect these important substantive amendments, the proposed rule, if finalized, would change the title of part 30 to “Prohibiting Illegal Discrimination in Registered Apprenticeship Programs.” These regulatory adjustments would also provide a policy rationale for changing the title of the ICR OMB Control No. 1205-0223 to “Registration and Nondiscrimination in Apprenticeship Programs,” and would further necessitate modifications to the existing content of ETA Form 671.

Accordingly, the Department proposes to remove Subsection F from Section I of Form 671, which discusses a program's selection procedures, aligning with the proposed rule's elimination of current 29 CFR 30.10 (the instructions related to Subsection F would also be eliminated). Similarly, the proposed rule changes, if finalized, would necessitate the modification of Section II of Form 671, the OMB-approved instrument that is utilized to collect information about apprentices once they are enrolled in a registered apprenticeship program. The proposed change to Section II would update the language in part C (Agreements and Signatures) to modify the statement within apprenticeship agreements whereby an apprenticeship program sponsor agrees not to discriminate against an apprentice as required by 29 CFR 29.7(j). Specifically, this clause would be modified to state that the sponsor agrees the apprentice will not be illegally discriminated against on the basis of a protected status, instead of stating that the apprentice will be “accorded equal opportunity in all phases of apprenticeship employment and training”. This change to Form 671 Section II would align with the proposed rule's conforming edits to 29 CFR 29.7(j).

The proposed rule, if finalized, would also impact ETA Form 9186, which is the Department's OMB-approved instrument to collect information about apprentices from State Apprenticeship Agencies (SAAs) not participating in the Department's “Registered Apprenticeship Partners Information Data System” (RAPIDS). The Department proposes removing question 8, regarding the number of active programs with five or more apprentices, and question 15, regarding the aggregated disability status of apprentices in a State. The instructions and definitions associated with those questions would also be deleted.

Finally, the proposed rule would rescind ETA Form 9039, which enables an apprentice to file a complaint alleging violations of part 30 requirements, as well as Form 671 Section IIA, which allows an apprentice to voluntarily self-report their disability status.

The National Apprenticeship Act (NAA) of 1937, (29 U.S.C. 50), authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0223.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Registration and Nondiscrimination in Apprenticeship Programs.

Form: ETA Form 671, Section I—Program Registration; ETA Form 671, Section II—Apprenticeship Agreement and Apprentice Registration; ETA Form 671, Section IIA—Voluntary Disability Disclosure; ETA Form 9186, State Apprenticeship Agency (SAA) Self-Assessment Report for Program Data and Apprentice Demographics; ETA Form 9039, Complaint Form for part 30 (EEO in Apprenticeship).

OMB Control Number: 1205-0223.

Affected Public: Individuals or Households, Private Sector—businesses or other for-profits and not-for-profit institutions, Government, State, Local and Tribal Governments.

Estimated Number of Respondents: 832,929.

Frequency: On Occasion.

Total Estimated Annual Responses: 1,876,787.

Estimated Average Time per Response: Varies.

Estimated Total Annual Burden Hours: 1,149,724 hours.

Total Estimated Annual Other Cost Burden: $0.

Authority: 44 U.S.C. 3506(c)(2)(A).

Susan Frazier,
Acting Assistant Secretary for Employment and Training, Labor.

[FR Doc. 2025-16255 Filed 8-22-25; 8:45 am]

BILLING CODE 4510-FN-P